SECURITIES AND EXCHANGE COMMISSION

Sunshine Act Meeting Federal Register Citation of Previous Announcement: [68 FR 1492, January 10, 2003].

Status: Closed Meetings.

Place: 450 Fifth Street, NW., Washington, DC.

Date and Time of Previously Announced Meeting: Tuesday, January 7, 2003 at 10 a.m., and Thursday, January 9, 2003 at 9 a.m.

Change in the Meeting: Time Change.

The Closed Meeting scheduled for Tuesday, January 7, 2003 at 10 a.m. was changed to Tuesday, January 7, 2003 at 10:45 a.m., and the Closed Meeting scheduled for Thursday, January 9, 2003 at 9 a.m. was changed to Thursday, January 9, 2003 at 10 a.m.

At times, changes in Commission priorities require alterations in the scheduling of meeting items. For further information and to ascertain what, if any, matters have been added, deleted or postponed, please contact:

The Office of the Secretary at (202) 942-7070.

Dated: January 13, 2003.
Margaret H. McFarland,
Deputy Secretary.

[FR Doc. 03-1110 Filed 1-14-03; 11:30 am]

BILLING CODE 8010-01-P